DEPARTMENT OF THE TREASURY

Internal Revenue Service

Open meeting of the Taxpayer Advocacy Panel

AGENCY: Internal Revenue Service (IRS) Treasury.

ACTION: Notice of meeting.

SUMMARY: An open meeting of the Taxpayer Advocacy Panel will be conducted. The Taxpayer Advocacy Panel is soliciting public comment, ideas, and suggestions on improving customer service at the Internal Revenue Service.

DATES: The meeting will be held Tuesday, December 7, 2010, Wednesday, December 8, 2010, and Thursday, December 9, 2010.

FOR FURTHER INFORMATION CONTACT: Susan Gilbert at 1-888-912-1227 or (515) 564-6638.

SUPPLEMENTARY INFORMATION: Notice is hereby given pursuant to Section 10(a)(2) of the Federal Advisory Committee Act, 5 U.S.C. App. (1988) that an open meeting of the Taxpayer Advocacy Panel will be held Tuesday, December 7, 2010, from 10:30 a.m. to 12:30 p.m., and 2 p.m. to 5 p.m., Wednesday, December 8, 2010, from 10:30 a.m. to 12:30 p.m., and 2 p.m. to 5 p.m., and Thursday, December 9, 2010, from 9 to 12 p.m. and 1 p.m. to 4 p.m. at the Capital Hilton Hotel in Washington, DC. If you would like to have the Taxpayer Advocacy Panel consider a written statement, please contact Susan Gilbert. For more information please contact Ms. Gilbert at 1-888-912-1227 or (515) 564-6638 or write: TAP Office, 210 Walnut Street, Stop 5115, Des Moines, IA 50309 or contact us at the Web site: http://www.improveirs.org.

The agenda will include various IRS issues.

Dated: November 1, 2010.
Shawn F. Collins,
Director, Taxpayer Advocacy Panel.

[FR Doc. 2010-27929 Filed 11-4-10; 8:45 am]

BILLING CODE 4830-01-P